DEPARTMENT OF TRANSPORTATION

Federal Railroad Administration

[Docket Number FRA-2006-25040]

Capital Metropolitan Transportation Authority; Notice of Public Hearing

On August 8, 2006, the Federal Railroad Administration (FRA) published a notice (Notice) in the Federal Register announcing Capital Metropolitan Authority's (CMTA) request for a waiver of compliance from certain provisions of Title 49 of the Code of Federal Regulations (CFR) for the operation of a new planned Commuter Rail Service (CRS) that will share trackage with the Austin Area Terminal Railroad (AUAR), a common carrier freight railroad. As explained in the Notice, CMTA is constructing a 32-mile rail system (27 miles shared with AUAR) linking the City of Leander, Texas, with downtown Austin, TX. CMTA plans to utilize temporal separation of freight and passenger operations on the shared trackage and a light rail style, non-FRA compliant Diesel-Multiple Unit (DMU) vehicle in order to offer a “ `one seat ride' operating on both the CMTA mainline and in city streets with tight curvature.”

As detailed in the Notice, CMTA seeks a waiver of compliance from certain regulatory provisions of 49 CFR parts 219 (Control of Alcohol and Drug Use), 221 (Rear end marking device), 223 (Safety glazing standards), 225 (Railroad accident/incident reporting), 229 (Railroad locomotive safety standards), 231 (Railroad safety appliance standards), 238 (Passenger equipment safety standards), 239 (Passenger train emergency preparedness) and 240 (Qualification and certification of locomotive engineers).

Noting that certain provisions in 49 CFR part 231 pertaining to safety appliances are statutorily required, and therefore not subject to FRA's waiver authority, CMTA also requests that FRA exercise its authority under 49 U.S.C. 20306 to exempt CMTA from certain provisions of Chapter 203, Title 49, of the United States Code because the “CMTA DMU vehicles will be equipped with their own array of safety devices resulting in equivalent safety.” Specifically, CMTA requests that for purposes of its planned CRS system, FRA exempt it from the requirements of 49 U.S.C. 20302 mandating that railroad vehicles be equipped with (1) Handbrakes, (2) sill steps; and (3) side and end handholds.

CMTA indicates that the DMU vehicles it plans to utilize for its CRS service are equipped with automatic spring applied parking brakes, as opposed to conventional hand brakes as required by Section 20302. CMTA further indicates that the parking brakes will be controlled by the one-person crew operating the vehicle from control stands within the vehicle and that the parking brakes are capable of holding a vehicle on a six percent grade at an 84.5 ton load. Accordingly, CMTA states the parking brake of its DMU vehicles serves the same purpose of a conventional hand brake, but in a manner that provides an equivalent or superior level of safety.

CMTA further indicates that sill steps (required by Section 20302) are not necessary for safety on the DMU vehicles and would not enhance the safety of the vehicles. Specifically, CMTA explains that the door threshold of the vehicles is 23.5 inches above the top of the rail, and such configuration renders still steps unnecessary.

CMTA also indicates that side and end handholds (required by Section 20302) are not necessary for safety on its DMU vehicles and in fact, such appliances might present a safety hazard in the street-running environment of its planned CRS system. Specifically, noting that handholds are typically intended for use by crew members performing yard and service duties, CMTA notes that its operations will not involve any such activities from positions outside and adjacent to the vehicle or near vehicle doors. Instead, CMTA indicates that yard moves will be controlled from the control stand within the vehicle by the on-board operator and switches will be hand thrown. Therefore, CMTA notes that there is no need for personnel to mount or dismount the vehicles using external appliances of any kind. Further, CMTA expresses reservation about installing external handholds because of the street-running characteristics of its planned CRS service noting that such appliances would give pedestrians “the opportunity to grab onto something on the outside of the vehicle with the intention to hitch an unlawful,” and unsafe, ride.

In accordance with 49 U.S.C. 20306, FRA may exempt CMTA from the above statutory requirements based on evidence received and findings developed at a hearing demonstrating that the statutory requirements “preclude the development or implementation of more efficient railroad transportation equipment or other transportation innovations under existing law.” Accordingly, in order to receive evidence and develop findings to determine whether FRA should invoke its discretionary authority under 49 U.S.C. 20306 in this instance, a public hearing is scheduled to begin at 9 a.m. on Thursday, January 8, 2009, at the Hilton Garden Inn located at 815 14th Street, NW., in Washington, DC. Interested parties are invited to present oral statements at the hearing. The hearing will be informal and will be conducted by a representative designated by FRA in accordance with FRA's Rules of Practice (49 CFR 211.25). The hearing will be a non-adversarial proceeding; therefore, there will be no cross examination of persons presenting statements. FRA representative will make an opening statement outlining the scope of the hearing. After all initial statements have been completed, those persons wishing to make a brief rebuttal will be given the opportunity to do so in the same order in which initial statements were made. Additional procedures, as necessary for the conduct of the hearing, will be announced at the hearing.

The petitioners should be present at the hearing and prepared to present evidence that any requirements of Chapter 203, title 49, United States Code, for which exemption is sought to “preclude the development or implementation of more efficient railroad transportation equipment or other transportation innovations under existing law.”

Issued in Washington, DC on December 8, 2008.
Grady C. Cothen, Jr.,
Deputy Associate Administrator for Safety Standards and Program Development.

[FR Doc. E8-29419 Filed 12-11-08; 8:45 am]

BILLING CODE 4910-06-P